ENVIRONMENTAL PROTECTION AGENCY

[FRL-7396-8]

Announcement of a Public Stakeholder Meeting on Drinking Water Distribution System Impacts on Water Quality

AGENCY: Environmental Protection Agency.

ACTION: Notice of a public stakeholder meeting.

SUMMARY: The U.S. Environmental Protection Agency (EPA) has scheduled a public meeting to discuss the finished water quality in distribution systems. The purpose of this meeting is to provide information to stakeholders and the public.

DATES: The stakeholder Meeting will be held from 9 a.m. to 4 p.m. Pacific Time on November 14, 2002.

ADDRESSES: The meeting will be at the Westcoast Grand Hotel at 1415 Fifth Avenue, Seattle, WA, phone (206) 971-8000.

FOR FURTHER INFORMATION CONTACT: For technical inquiries contact: Mr. Kenneth Rotert, (202) 564-5280, e-mail: rotert.kenneth@epa.gov. For registration and general information about this meeting, please contact Ms. Stephanie Danner at The Cadmus Group, Inc; 1901 North Fort Myer Dr., Suite 900, Arlington, VA 22209, by phone: (703) 247-6129; by fax: (703) 247-6001, or by e-mail at Sdanner@cadmusgroup.com.

SUPPLEMENTARY INFORMATION: The meeting will provide stakeholders information on nine white papers which present available data, information, and research on the potential public health impacts of drinking water distribution systems.

Those registered by November 8 will receive background materials prior to the meeting. Additional information on these and other EPA activities under SDWA is available at the Safe Drinking Water Hotline at (800) 426-4791.

Meeting materials, including the previously mentioned white papers, are available at http://www.epa.gov/safewater/tcr/tcr.html. Proceedings of the meeting will also be posted on this website.

Any person needing special accommodations at this meeting, including wheelchair access, should contact the same previously-noted point of contact at The Cadmus Group, Inc., at least five business days before the meeting so that the Agency can make appropriate arrangements.

Same day registration for this meeting will be from 8:45 a.m. to 9 a.m. Pacific Time.

Dated: October 16, 2002.
Cynthia C. Dougherty,
Director, Office of Ground Water and Drinking Water.

[FR Doc. 02-26713 Filed 10-18-02; 8:45 am]

BILLING CODE 6560-50-P